POSTAL SERVICE

39 CFR Part 20

International Mail: Republic of the Marshall Islands and Federated States of Micronesia

AGENCY: Postal Service.

ACTION: Proposed rule.

SUMMARY: Under an agreement negotiated by the United States government with the Republic of the Marshall Islands and the Federated States of Micronesia, mail destined to those two countries will now use the international rate schedules. This proposal would amend the International Mail Manual (IMM) to include the Republic of the Marshall Islands and the Federated States of Micronesia in all international products and services and add them to the individual country listings.

DATES: Submit comments on or before October 17, 2005.

ADDRESSES: Mail or deliver comments to the Manager, Mailing Standards, Attn: Obataiye Akinwole, U.S. Postal Service, 475 L'Enfant Plaza SW., RM 3436, Washington DC 20260-3436. You may also fax written comments to 202-268-4955. You may inspect and photocopy all written comments between 9 a.m. and 4 p.m., Monday through Friday, at USPS Headquarters Library, 11th Floor North, 475 L'Enfant Plaza SW., Washington DC.

FOR FURTHER INFORMATION CONTACT: Obataiye B. Akinwole at 202-268-7262, or Thomas P. Philson at 202-268-7355.

SUPPLEMENTARY INFORMATION: The United States government negotiated an agreement with two former United States Trust Territories, the Republic of the Marshall Islands and the Federated States of Micronesia. As a part of that agreement, mail destined to those two countries will now use the international rate schedules. As provided in the agreement, international rates will be phased in over a period of not less than five years, beginning no sooner than 2006.

For all international services with domestic equivalents, rates will be phased in using the difference between the domestic rates and the international rates. These services include Express Mail, Air Letters, Postcards, Publishers' Periodicals, Air Parcel Post, Economy Parcel Post, and Books and Sheet Music.

For international services without domestic equivalents, phased rates were derived by selecting a lower rate country group. After the phasing period, the Republic of the Marshall Islands and the Federated States of Micronesia will be in country group 5 for Economy Letter Post, Airmail M-Bags, and Economy M-Bags and country group 7 for International Priority Airmail (IPA). To phase in these rates over at least five years the Republic of the Marshall Islands and the Federated States of Micronesia have been assigned to country group 3 for those services during the first phase. Aerogramme service does not have a domestic equivalent; however, there is only one worldwide rate available.

Initially, three international services will not be offered for mail destined to the Republic of the Marshall Islands and the Federated States of Micronesia: Global Express Guaranteed® (GXG™), Global Priority Mail® (GPM), and International Surface Air Lift (ISAL). These services require special transportation arrangements and may be offered in the future.

The rates, fees, and conditions of mailing proposed in this notice, if adopted, would become effective concurrent with any domestic rates adopted as a result of the current proceedings before the Postal Rate Commission (Docket No. R2005-1). All regulatory changes necessary to implement this proposal are given below.

Although exempt from the notice and comment requirements of the Administrative Procedure Act [5 U.S.C. 553 (b), (c)] regarding proposed rulemaking by 39 U.S.C. 410(a), the Postal Service invites public comment on the following proposed revisions to the International Mail Manual (IMM), incorporated by reference in the Code of Federal Regulations. See 39 CFR 20.1.

List of Subjects in 39 CFR Part 20

Foreign relations, International postal services.

PART 20—[AMENDED]

1. The authority citation for 39 CFR part 20 continues to read as follows:

Authority: 5 U.S.C. 552(a); 39 U.S.C. 401, 404, 407, 408.

2. Amend the International Mail Manual (IMM) as follows.

Country Rate Group List
Country | EMS | Airmail parcel post | Economy parcel post rate | Letter-post rate | GXG rate | IPA ¹ISAL
Marshall Islands | 13 | 14 | 13 | 6 |  | 3
Micronesia, Federated States of | 13 | 14 | 13 | 6 |  | 3
¹ ISAL service not available to all countries. See Individual Country Listings for availability.

* * * * *

2 Conditions for Mailing

210 Global Express Guaranteed

* * * * *

213 Service Areas

* * * * *

213.2 Destinating Countries and Rate Groups

* * * * *

[Revise the Destinating Countries and Rate Groups table by adding “Marshall Islands, Republic of” and “Micronesia, Federated States of” as follows:]

Country | Document service rate group | Non-Document service rate group
Marshall Islands, Republic of | No Service | No Service.
Micronesia, Federated States of | No Service | No Service.
* * * * * * *

280 Parcel Post

* * * * *

283 Weight and Size Limits

* * * * *

283.23 Exceptional Size Limits

[Revise item b by adding the Republic of the Marshall Islands and the Federated States of Micronesia to read as follows:]

* * * * *

b. Maximum length: 60 inches

Maximum length and girth combined: 108 inches

Azerbaijan

Great Britain and Northern Ireland

Japan

Macao

Marshall Islands, Republic of

Micronesia, Federated States of

* * * * *

290 Commercial Services

* * * * *

292 International Priority Airmail Service

* * * * *

292.4 Preparation Requirements for Individual Items

* * * * *

292.44 Sortation Requirements for IPA

* * * * *

292.442 Presorted Mail

* * * * *

Exhibit 292.442 Foreign Exchange Office and Country Rate Groups

[Revise the Foreign Exchange Office and Country Rate Groups table by adding “Marshall Islands, Republic of” and “Micronesia, Federated States of” as follows:]

Rate group | Country | 3-letter exchange office code | Exchange office
3 | Marshall Islands, Republic of | MAJ | MAJURO.
3 | Micronesia, Federated States of | PNI | POHNPEI.
* * * * * * *

294 Publishers' Periodicals

* * * * *

294.4 Makeup Requirements for Publishers' Periodicals

* * * * *

294.42 Sacking and Labeling

* * * * *

Exhibit 294.42 Publishers' Periodicals—All Countries (Except Canada) Labeling, Routing, and Rate Group Information

[Revise the Publishers' Periodicals labeling, routing, and rate group information table as follows:]

Destination exchange office code | Country | Routing code | Observations | Publishers' periodical rate group
MAJ | Marshall Islands, Republic of | 945 |  | 6
PNI | Micronesia, Federated States of | 945 |  | 6
* * * * * * *

World Map

[Insert the Republic of the Marshall Islands and the Federated States of Micronesia at map reference M5.]

* * * * *

World Map Index

[Add references for the Republic of the Marshall Islands and the Federated States of Micronesia to the world map index as follows:]

Micronesia, Federated States of—M5

Marshall Islands, Republic of—M5

* * * * *

Index of Countries and Localities

[Revise the references for the Republic of the Marshall Islands and the Federated States of Micronesia by removing the note “See DMM 608” and adding the appropriate IMM page number.]

* * * * *

Individual Country Listings

[Add an individual country listing for the Republic of the Marshall Islands.]

Country Conditions for Mailing—Marshall Islands, Republic of Prohibitions (130)

None furnished.

Restrictions

None furnished.

Observations

None furnished.

Customs Forms Required (123)

Letter-post: PS Form 2976 or 2976-A (see 123.61)

Parcel Post: PS Form 2976-A inside 2976-E (envelope)

Size Limits

Letter-post: See 243.2

Parcel Post: Maximum length: 60 inches

Maximum length and girth combined: 108 inches

Postal/Post Cards (250) $0.34

Aerogrammes (250) $0.75 Enclosures NOT permitted

Airmail Letter-Post Rates
Weight not over (ozs.) | Letter-post rate
1 | $0.48
2 | 0.85
3 | 1.20
4 | 1.55
5 | 1.90
6 | 2.25
7 | 2.60
8 | 2.95
12 | 4.25
16 | 5.35
20 | 6.45
24 | 7.55
28 | 8.65
32 | 9.75
36 | 10.90
40 | 12.00
44 | 13.15
48 | 14.25
52 | 15.40
56 | 16.55
60 | 17.65
64 | 18.80
Weight Limit: 64 ounces (4 lbs.)

Airmail Parcel Post Rates
Weight not over (lbs.) | Parcel post rate | Weight not over (lbs.) | Parcel post rate
1 | $5.90 | 36 | $50.30
2 | 6.75 | 37 | 51.55
3 | 8.20 | 38 | 52.85
4 | 9.60 | 39 | 54.05
5 | 11.00 | 40 | 55.25
6 | 12.20 | 41 | 56.50
7 | 13.40 | 42 | 57.70
8 | 14.75 | 43 | 58.95
9 | 16.05 | 44 | 60.15
10 | 17.25 | 45 | 61.40
11 | 18.55 | 46 | 62.60
12 | 19.80 | 47 | 63.85
13 | 21.10 | 48 | 65.05
14 | 22.35 | 49 | 66.25
15 | 23.60 | 50 | 67.45
16 | 24.90 | 51 | 68.70
17 | 26.15 | 52 | 69.90
18 | 27.45 | 53 | 71.15
19 | 28.70 | 54 | 72.35
20 | 30.00 | 55 | 73.60
21 | 31.20 | 56 | 74.80
22 | 32.50 | 57 | 76.05
23 | 33.80 | 58 | 77.25
24 | 35.05 | 59 | 78.50
25 | 36.35 | 60 | 79.70
26 | 37.55 | 61 | 80.95
27 | 38.85 | 62 | 82.10
28 | 40.15 | 63 | 83.40
29 | 41.40 | 64 | 84.55
30 | 42.70 | 65 | 85.85
31 | 43.90 | 66 | 87.00
32 | 45.20 | 67 | 88.25
33 | 46.50 | 68 | 89.45
34 | 47.75 | 69 | 90.70
35 | 49.00 | 70 | 91.95
Weight Limit: 70 lbs.

Airmail Direct Sack to One Addressee—M-Bags (260)
Weight Not Over 11 lbs | $29.15
Each additional pound or fraction of a pound | 2.65
Weight Limit: 4 pounds

Global Priority Mail (GPM) (230) Not Available

Economy Mail Letter-Post Rates
Weight not over (ozs.) | Letter-post rate
16 | $4.10
20 | 4.85
24 | 5.55
28 | 6.20
32 | 6.85
36 | 7.50
40 | 8.15
44 | 8.80
48 | 9.45
52 | 10.10
56 | 10.75
60 | 11.40
64 | 12.05
Weight Limit: 64 ounces (4 lbs.)

Economy Mail Parcel Post Rates
Weight not over (lbs.) | Parcel post rates | Weight not over (lbs.) | Parcel post rate
5 | $9.35 | 38 | $23.40
6 | 9.85 | 39 | 23.70
7 | 10.40 | 40 | 24.10
8 | 10.85 | 41 | 24.45
9 | 11.35 | 42 | 24.80
10 | 12.30 | 43 | 25.15
11 | 12.80 | 44 | 25.45
12 | 13.20 | 45 | 25.80
13 | 13.65 | 46 | 26.15
14 | 14.10 | 47 | 26.50
15 | 14.55 | 48 | 26.85
16 | 15.00 | 49 | 27.20
17 | 15.40 | 50 | 27.50
18 | 15.80 | 51 | 27.85
19 | 16.20 | 52 | 28.20
20 | 16.60 | 53 | 28.55
21 | 17.05 | 54 | 28.90
22 | 17.40 | 55 | 29.20
23 | 17.85 | 56 | 29.55
24 | 18.30 | 57 | 29.90
25 | 18.70 | 58 | 30.20
26 | 19.10 | 59 | 30.55
27 | 19.45 | 60 | 30.90
28 | 19.85 | 61 | 31.25
29 | 20.20 | 62 | 31.55
30 | 20.55 | 63 | 31.90
31 | 20.95 | 64 | 32.20
32 | 21.30 | 65 | 32.55
33 | 21.65 | 66 | 32.85
34 | 22.05 | 67 | 33.20
35 | 22.40 | 68 | 33.50
36 | 22.65 | 69 | 33.85
37 | 23.00 | 70 | 34.20
Weight Limit: 70 lbs.

Economy Mail Direct Sack to One Addressee—M-Bags (260)
Regular:
Weight Not Over 11 lbs | $17.05
Each additional pound or fraction of a pound | 1.55
Books and Sheet Music:
Weight Not Over 11 lbs | 10.45
Each additional pound or fraction of a pound | 0.95
Weight Limit: 66 lbs.

Economy Mail Books and Sheet Music Rates (295)
Weight not over (ozs.) | Rate
16 | $1.80
20 | 2.25
24 | 2.35
28 | 2.50
32 | 2.60
36 | 3.05
40 | 3.15
44 | 3.25
48 | 3.30
52 | 3.75
56 | 3.85
60 | 3.95
64 | 4.05
Weight Limit: 64 ounces (4 lbs.)
Note: This is a bulk mail service that is subject to a minimum entry requirement of 200 pieces or 50 pounds of qualifying contents. See 295.

Matter for the Blind (270)

Free when sent as Economy Mail. Weight Limit: 15 lbs.

Economy Mail Publisher's Periodicals Rates (294)
Weight not over (ozs.) | Rate
1 | $0.60
2 | 0.63
3 | 0.66
4 | 0.69
5 | 0.72
6 | 0.75
7 | 0.78
8 | 0.81
12 | 0.90
16 | 0.99
20 | 1.25
24 | 1.34
28 | 1.44
32 | 1.53
36 | 1.78
40 | 1.88
44 | 1.97
48 | 2.06
52 | 2.32
56 | 2.41
60 | 2.50
64 | 2.60
Weight Limit: 64 ounces (4 lbs.)
$.25 per pound discount for drop shipments tendered at the New Jersey International and Bulk Mail Center.

Special Services

Certificate of Mailing—See 313 for fees

COD and Certified—NOT for International Mail

Insurance (320)—NOT Available

International Business Reply Service (373)—NOT Available

International Money Order (371)—NOT Available

International Reply Coupons (372)—NOT Available

Recorded Delivery (360)—NOT Available

Registered Mail (330)—NOT Available

Restricted Delivery (350)—NOT Available

Return Receipt (340)—NOT Available

Global Express Guaranteed (210)—NOT Available

Global Express Mail (EMS) (220)
Weight not over (lbs.) | Rate | Weight not over (lbs.) | Rate
0.5 | $15.00 | 36 | $99.70
1 | 19.35 | 37 | 102.00
2 | 20.10 | 38 | 104.40
3 | 23.65 | 39 | 106.75
4 | 27.15 | 40 | 109.15
5 | 30.60 | 41 | 111.55
6 | 34.10 | 42 | 114.00
7 | 37.55 | 43 | 116.30
8 | 39.55 | 44 | 118.70
9 | 41.65 | 45 | 120.90
10 | 43.60 | 46 | 122.95
11 | 45.95 | 47 | 125.20
12 | 49.05 | 48 | 127.35
13 | 51.55 | 49 | 129.40
14 | 53.30 | 50 | 131.55
15 | 55.30 | 51 | 133.75
16 | 57.50 | 52 | 135.85
17 | 59.65 | 53 | 138.05
18 | 61.75 | 54 | 140.15
19 | 63.80 | 55 | 142.30
20 | 65.95 | 56 | 144.50
21 | 68.05 | 57 | 146.60
22 | 70.15 | 58 | 148.80
23 | 72.30 | 59 | 151.00
24 | 74.35 | 60 | 153.35
25 | 76.45 | 61 | 155.85
26 | 78.60 | 62 | 158.20
27 | 80.65 | 63 | 160.55
28 | 82.80 | 64 | 163.05
29 | 84.90 | 65 | 165.40
30 | 87.00 | 66 | 167.90
31 | 89.15 | 67 | 170.30
32 | 91.30 | 68 | 172.90
33 | 93.30 | 69 | 175.40
34 | 95.50 | 70 | 177.90
35 | 97.75
Weight Limit: 70 lbs.

Insurance (221.3)—NOT Available

Size Limits (223.2)

Maximum length: 36 inches.

Maximum length and girth combined: 79 inches.

Return Receipt Service (221.4): NOT Available.

Reciprocal Service Name: There is no reciprocal service.

Country Code: MH.

Areas Served: All.

* * * * *

[Add an individual country listing for the Federated States of Micronesia.]

Country Conditions for Mailing—Micronesia, Federated States of Prohibitions (130)

None furnished.

Restrictions

None furnished.

Observations

None furnished.

Customs Forms Required (123)

Letter-post: PS Form 2976 or 2976-A (see 123.61).

Parcel Post: PS Form 2976-A inside 2976-E (envelope).

Size Limits

Letter-post: See 243.2.

Parcel Post: Maximum length: 60 inches.

Maximum length and girth combined: 108 inches.

Postal/Post Cards (250) $0.34.

Aerogrammes (250) $0.75 Enclosures NOT permitted.

Airmail Letter-Post Rates
Weight not over (ozs.) | Letter-post rate
1 | $0.48
2 | 0.85
3 | 1.20
4 | 1.55
5 | 1.90
6 | 2.25
7 | 2.60
8 | 2.95
12 | 4.25
16 | 5.35
20 | 6.45
24 | 7.55
28 | 8.65
32 | 9.75
36 | 10.90
40 | 12.00
44 | 13.15
48 | 14.25
52 | 15.40
56 | 16.55
60 | 17.65
64 | 18.80
Weight Limit: 64 ounces (4 lbs.)

Airmail Parcel Post Rates
Weight not over (lbs.) | Parcel post rate | Weight not over (lbs.) | Parcel post rate
1 | $5.90 | 36 | $50.30
2 | 6.75 | 37 | 51.55
3 | 8.20 | 38 | 52.85
4 | 9.60 | 39 | 54.05
5 | 11.00 | 40 | 55.25
6 | 12.20 | 41 | 56.50
7 | 13.40 | 42 | 57.70
8 | 14.75 | 43 | 58.95
9 | 16.05 | 44 | 60.15
10 | 17.25 | 45 | 61.40
11 | 18.55 | 46 | 62.60
12 | 19.80 | 47 | 63.85
13 | 21.10 | 48 | 65.05
14 | 22.35 | 49 | 66.25
15 | 23.60 | 50 | 67.45
16 | 24.90 | 51 | 68.70
17 | 26.15 | 52 | 69.90
18 | 27.45 | 53 | 71.15
19 | 28.70 | 54 | 72.35
20 | 30.00 | 55 | 73.60
21 | 31.20 | 56 | 74.80
22 | 32.50 | 57 | 76.05
23 | 33.80 | 58 | 77.25
24 | 35.05 | 59 | 78.50
25 | 36.35 | 60 | 79.70
26 | 37.55 | 61 | 80.95
27 | 38.85 | 62 | 82.10
28 | 40.15 | 63 | 83.40
29 | 41.40 | 64 | 84.55
30 | 42.70 | 65 | 85.85
31 | 43.90 | 66 | 87.00
32 | 45.20 | 67 | 88.25
33 | 46.50 | 68 | 89.45
34 | 47.75 | 69 | 90.70
35 | 49.00 | 70 | 91.95
Weight Limit: 70 lbs.

Airmail Direct Sack to One Addressee—M-Bags (260)
Weight Not Over 11 lbs | $29.15
Each additional pound or fraction of a pound | 2.65
Weight Limit: 66 pounds

Global Priority Mail (GPM) (230) NOT Available

Economy Mail Letter-Post Rates
Weight not over (ozs.) | Letter-post rate
16 | $4.10
20 | 4.85
24 | 5.55
28 | 6.20
32 | 6.85
36 | 7.50
40 | 8.15
44 | 8.80
48 | 9.45
52 | 10.10
56 | 10.75
60 | 11.40
64 | 12.05
Weight Limit: 64 ounces (4 lbs.)

Economy Mail Parcel Post Rates
Weight not over (lbs.) | Parcel post rate | Weight not over (lbs) | Parcel post rate
5 | $9.35 | 38 | $23.40
6 | 9.85 | 39 | 23.70
7 | 10.40 | 40 | 24.10
8 | 10.85 | 41 | 24.45
9 | 11.35 | 42 | 24.80
10 | 12.30 | 43 | 25.15
11 | 12.80 | 44 | 25.45
12 | 13.20 | 45 | 25.80
13 | 13.65 | 46 | 26.15
14 | 14.10 | 47 | 26.50
15 | 14.55 | 48 | 26.85
16 | 15.00 | 49 | 27.20
17 | 15.40 | 50 | 27.50
18 | 15.80 | 51 | 27.85
19 | 16.20 | 52 | 28.20
20 | 16.60 | 53 | 28.55
21 | 17.05 | 54 | 28.90
22 | 17.40 | 55 | 29.20
23 | 17.85 | 56 | 29.55
24 | 18.30 | 57 | 29.90
25 | 18.70 | 58 | 30.20
26 | 19.10 | 59 | 30.55
27 | 19.45 | 60 | 30.90
28 | 19.85 | 61 | 31.25
29 | 20.20 | 62 | 31.55
30 | 20.55 | 63 | 31.90
31 | 20.95 | 64 | 32.20
32 | 21.30 | 65 | 32.55
33 | 21.65 | 66 | 32.85
34 | 22.05 | 67 | 33.20
35 | 22.40 | 68 | 33.50
36 | 22.65 | 69 | 33.85
37 | 23.00 | 70 | 34.20
Weight Limit: 70 lbs.

Economy Mail Direct Sack to One Addressee—M-Bags (260)
Regular:
Weight Not Over 11 lbs | $17.05
Each additional pound or fraction of a pound | $1.55
Books and Sheet Music:
Weight Not Over 11 lbs | 10.45
Each additional pound or fraction of a pound | 0.95
Weight Limit: 66 lbs.

Economy Mail Books and Sheet Music Rates (295)
Weight not over (ozs.) | Rate
16 | $1.80
20 | 2.25
24 | 2.35
28 | 2.50
32 | 2.60
36 | 3.05
40 | 3.15
44 | 3.25
48 | 3.30
52 | 3.75
56 | 3.85
60 | 3.95
64 | 4.05
Weight Limit: 64 ounces (4 lbs.)
Note: This is a bulk mail service that is subject to a minimum entry requirement of 200 pieces or 50 pounds of qualifying contents. See 295.

Matter for the Blind (270)

Free when sent as Economy Mail. Weight limit: 15 lbs.

Economy Mail Publishers' Periodicals Rates (294)
Weight not over (ozs.) | Rate
1 | $0.60
2 | 0.63
3 | 0.66
4 | 0.69
5 | 0.72
6 | 0.75
7 | 0.78
8 | 0.81
12 | 0.90
16 | 0.99
20 | 1.25
24 | 1.34
28 | 1.44
32 | 1.53
36 | 1.78
40 | 1.88
44 | 1.97
48 | 2.06
52 | 2.32
56 | 2.41
60 | 2.50
64 | 2.60
Weight Limit: 64 ounces (4 lbs.)
$0.25 per pound discount for drop shipments tendered at the New Jersey International and Bulk Mail Center.

Special Services

Certificate of Mailing—See 313 for fees

COD and Certified—NOT for International Mail

Insurance (320)—NOT Available

International Business Reply Service (373)—NOT Available

International Money Order (371)—NOT Available

International Reply Coupons (372)—NOT Available

Recorded Delivery (360)—NOT Available

Registered Mail (330)—NOT Available

Restricted Delivery (350)—NOT Available

Return Receipt (340)—NOT Available

Global Express Guaranteed (210)—NOT Available

Global Express Mail (EMS) (220)
Weight not over (lbs.) | Rate | Weight not over (lbs.) | Rate
0.5 | $15.00 | 36 | $99.70
1 | 19.35 | 37 | 102.00
2 | 20.10 | 38 | 104.40
3 | 23.65 | 39 | 106.75
4 | 27.15 | 40 | 109.15
5 | 30.60 | 41 | 111.55
6 | 34.10 | 42 | 114.00
7 | 37.55 | 43 | 116.30
8 | 39.55 | 44 | 118.70
9 | 41.65 | 45 | 120.90
10 | 43.60 | 46 | 122.95
11 | 45.95 | 47 | 125.20
12 | 49.05 | 48 | 127.35
13 | 51.55 | 49 | 129.40
14 | 53.30 | 50 | 131.55
15 | 55.30 | 51 | 133.75
16 | 57.50 | 52 | 135.85
17 | 59.65 | 53 | 138.05
18 | 61.75 | 54 | 140.15
19 | 63.80 | 55 | 142.30
20 | 65.95 | 56 | 144.50
21 | 68.05 | 57 | 146.60
22 | 70.15 | 58 | 148.80
23 | 72.30 | 59 | 151.00
24 | 74.35 | 60 | 153.35
25 | 76.45 | 61 | 155.85
26 | 78.60 | 62 | 158.20
27 | 80.65 | 63 | 160.55
28 | 82.80 | 64 | 163.05
29 | 84.90 | 65 | 165.40
30 | 87.00 | 66 | 167.90
31 | 89.15 | 67 | 170.30
32 | 91.30 | 68 | 172.90
33 | 93.30 | 69 | 175.40
34 | 95.50 | 70 | 177.90
Weight Limit: 70 lbs.

Insurance (221.3) NOT Available

Size Limits (223.2)

Maximum length: 36 inches

Maximum length and girth combined: 79 inches

Return Receipt Service (221.4): NOT Available

Reciprocal Service Name: There is no reciprocal service.

Country Code: FM

Areas Served: All

* * * * *

We will publish an amendment to 39 CFR part 20 to reflect these changes if our proposal is adopted.

Neva R. Watson,
Attorney, Legislative.

[FR Doc. 05-18259 Filed 9-14-05; 8:45 am]

BILLING CODE 7710-12-P